COMMISSION ON CIVIL RIGHTS

Sunshine Act Notice

DATE AND TIME: Friday, April 13, 2007, 9:30 a.m.

PLACE: U.S. Commission on Civil Rights, 624 Ninth Street, NW., Rm. 540, Washington, DC 20425.

Meeting Agenda

I. Approval of Agenda

II. Approval of Minutes of March 9, Meeting

III. Announcements

IV. Staff Director's Report

V. Management and Operations

• Anti-Semitism Public Education Campaign Web Pages

• 2007 Calendar

• Web site Updates

• Procedures for Briefing Reports

• Strategic Planning

VI. Program Planning

• Affirmative Action in Law Schools Briefing Report

VII. State Advisory Committee Issues

• Virginia SAC

• Michigan AC

VIII. Future Agenda Items

IX. Adjourn

CONTACT PERSON FOR FURTHER INFORMATION: Christopher Byrnes, Office of the Staff Director, (202) 376-7700.

David Blackwood,
General Counsel.

[FR Doc. 07-1720 Filed 4-3-05; 3:36 pm]

BILLING CODE 6335-OP-P